DEPARTMENT OF ENERGY

Federal Energy Regulatory Commission

[Project No. 13762-000; Project No. 13773-000; Project No. 13784-000]

Notice of Competing Preliminary Permit Applications Accepted for Filing and Soliciting Comments, and Motions To Intervene

November 19, 2010.

FFP Missouri 15, LLC | Project No. 13762-000.
Morgantown Hydro, LLC | Project No. 13773-000.
Three Rivers Hydro, LLC | Project No. 13784-000.

On May 18, 2010, FFP Missouri 15, LLC, Morgantown Hydro, LLC, and Three Rivers Hydro LLC filed applications, pursuant to section 4(f) of the Federal Power Act, proposing to study the feasibility of hydropower at the U.S. Army Corps of Engineers Morgantown Lock & Dam located on the Monongahela River in Monongahela County, West Virginia. The sole purpose of a preliminary permit, if issued, is to grant the permit holder priority to file a license application during the permit term. A preliminary permit does not authorize the permit holder to perform any land-disturbing activities or otherwise enter upon lands or waters owned by others without the owners' express permission.

Descriptions of the Proposed Morgantown Lock & Dam Projects

FFP Missouri 15, LLC's project (Project No. 13762-000) would consist of: (1) An excavated intake channel slightly longer and wider than the powerhouse; (2) a 60-foot-long, 110-foot-wide, 40-foot-high proposed powerhouse containing two generating units having a total installed capacity of 9.0 megawatts (MW); (3) an excavated tailrace channel slightly longer and wider than the powerhouse; and (4) a proposed 13-mile-long, ranging from 34.0 to 230-kilovolt (kV) transmission line. The proposed project would have an average annual generation of 26.0 gigawatt-hours (GWh), which would be sold to a local utility.

Applicant Contact: Ms. Ramya Swaminathan, Free Flow Power Corporation, 33 Commercial Street, Gloucester, MA 01930; phone (978) 283-2822.

Morgantown Hydro LLC's project (Project No. 13773-000) would consist of: (1) A proposed 80-foot-long excavated power canal; (2) a proposed powerhouse containing two generating units having a total installed capacity of 7.2 MW; (3) a 120-foot-long excavated tailrace; and (4) a proposed 0.3-mile-long, 69.0-kV transmission line. The proposed project would have an average annual generation of 26.2 GWh, which would be sold to a local utility.

Applicant Contact: Mr. Brent Smith, Symbiotics, LLC., P.O. Box 535, Rigby, ID 83442; phone (208) 745-0834.

Three Rivers Hydro, LLC's project (Project No. 13784-000) would consist of: (1) A proposed 85-foot-long excavated power canal; (2) a 45-foot-long, 110-foot-wide, 40-foot-high proposed powerhouse containing two generating units having a total installed capacity of 3.7 MW; (3) a 95-foot-long excavated tailrace; and (4) a proposed 1,100-foot-long, ranging from 34 to 230-kV transmission line. The proposed project would have an average annual generation of 20.0 GWh, which would be sold to a local utility.

Applicant Contact: Mr. Joseph Watt, Esq., Three Rivers Hydro, LLC, 316 South Clinton Street, Suite 4, Syracuse, NY 13202; phone (315) 477-9914.

FERC Contact: Tim Looney (202) 502-6096.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov; call toll-free at (866) 208-3676; or, for TTY, contact (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-13762-000, 13773-000, or 13784-000) in the docket number field to access the document. For assistance, contact FERC Online Support.

Kimberly D. Bose,
Secretary.

[FR Doc. 2010-29856 Filed 11-26-10; 8:45 am]

BILLING CODE 6717-01-P